NUCLEAR REGULATORY COMMISSION

Notice of Sunshine Act Meetings

Date: Weeks of November 27, December 4, 11, 18, 25, 2006. January 1, 2007.

Place: Commissioners' Conference Room, 11555 Rockville Pike, Rockville, Maryland.

Status: Public and Closed.

Matters to Be Considered:

Week of November 27, 2006.

There are no meetings scheduled during the week of November 27, 2006.

Week of December 4, 2006—Tentative

Wednesday, December 6, 2006

2:45 p.m. Discussion of Security Issues (Closed—Ex. 1) (Tentative).

Thursday, December 7, 2006

9:25 a.m. Affirmation Session (Public Meeting) (Tentative). a. Hydro Resources, Inc. (Crownpoint, NM) Intervenors' Petition for Review of LBP-06-19 (Final Partial Initial Decision—NEPA Issues) (Tentative).

9:30 a.m. Discussion of Management Issues (Closed—Ex. 2).

Week of December 11, 2006—Tentative

Monday, December 11, 2006

1:30 p.m. Briefing on Status of Decommissioning Activities (Public Meeting) (Contact: Keith McConnell, 301-415-7295).

This meeting will be Webcast live at the Web address— http://www.nrc.gov.

Tuesday, December 12, 2006

9:30 a.m. Briefing on Threat Environment Assessment (Closed—Ex. 1).

1:30 p.m. Discussion of Security Issues (Closed—Ex. 1 & 3).

Wednesday, December 13, 2006

9:30 a.m. Briefing on Status of Equal Employment Opportunity (EEO) Programs (Public Meeting) (Contact: Barbara Williams, 301-415-7388).

This meeting will be Webcast live at the Web address— http://www.nrc.gov.

Thursday, December 14, 2006

9:25 a.m. Affirmation Session (Public Meeting) (Tentative). a. Entergy Nuclear Vermont Yankee, LLC, & Entergy Nuclear Operations, Inc. (Vermont Yankee Nuclear Power Station), LBP-06-20 (Sept. 22, 2006), reconsid'n denied (Oct. 30, 2006) (Tentative).

9:30 a.m. Meeting with Advisory Committee on Nuclear Waste (ACNW) (Public Meeting) (Contact: John Larkins, 301-415-7360).

This meeting will be Webcast live at the Web address— http://www.nrc.gov.

Week of December 18, 2006—Tentative

There are no meetings scheduled for the Week of December 18, 2006.

Week of December 25, 2006—Tentative

There are no meetings scheduled for the Week of December 25, 2006.

Week of January 1, 2007—Tentative

There are no meetings scheduled for the Week of January 1, 2007.

* The schedule for Commission meetings is subject to change on short notice. To verify the status of meetings call (recording)—(301) 415-1292. Contact person for more information: Michelle Schroll, (301) 415-1662.

additional information: Affirmation of Hydro Resources, Inc. (Crownpoint, NM) Intervenors' Petition for Review of LBP-06-19 (Final Partial Initial Decision—NEPA Issues) tentatively scheduled on Thursday, November 30, 2006 at 12:55 p.m. has been rescheduled tentatively on Thursday, December 7, 2006 at 9:25 a.m.

The NRC Commission Meeting Schedule can be found on the Internet at: http://www.nrc.gov/what-we-do/policy-making/schedule.html.

The NRC provides reasonable accommodations to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 22, 2006.
R. Michelle Schroll,
Office of the Secretary.

[FR Doc. 06-9450 Filed 11-24-06; 10:27 am]

BILLING CODE 7590-01-M